DEPARTMENT OF EDUCATION

National Assessment Governing Board

National Assessment Governing Board; Meetings

AGENCY: National Assessment Governing Board, Department of Education.

ACTION: Supplemental virtual meeting notice.

SUMMARY: The National Assessment Governing Board (Governing Board) published a document in the Federal Register of June 16, 2020, announcing the schedule and proposed agenda of a forthcoming virtual meeting of the Governing Board on June 29, 2020. The meeting agenda has been updated to reflect a change to the closed session scheduled for Monday, June 29, 2020, from 2:00 p.m. to 4:00 p.m. Eastern Time. (ET).

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: In the Federal Register published on June 16, 2020, in FR Doc. 2020-12952 (85 FR 36384-36385), the Governing Board advised members of the public of a virtual meeting scheduled to take place on June 29, 2020. Updates to the agenda are required based on the fact that the agenda items to be covered during the closed session is now shortened, which impacts the time available for the open session.

The first session, the closed session, will discuss independent cost estimates related to the impact of the COVID-19 pandemic on the National Assessment of Educational Progress (NAEP) 2021 operations and subsequent potential impacts on the NAEP budget and assessment schedule as previously announced. The closed discussion will now take place between 2:00 p.m. to 3:15 p.m. (ET). The discussions may impact current and future NAEP contracts and budgets and must be kept confidential. Public disclosure of this confidential information would significantly impede implementation of the NAEP assessment program if conducted in open session. Such matters are protected by exemption 9(B) of section 552b(c) of Title 5 of the United States Code. The closed session will be followed by a 15-minute break. The agenda is hereby revised to add an additional item for the open session which will now take place from 3:30 p.m. to 5:00 p.m. ET. The Board will engage in conversation with key stakeholders on NAEP 2021—representatives from the Council of the Great City Schools, the Council of Chief State School Officers, and the Southern Regional Education Board. Following this discussion, the originally published discussion on NAEP 2021 options will continue as scheduled from 4:00 p.m. to 5:00 p.m. ET. The meeting will adjourn at 5:00 p.m. ET.

Access to Records of the Meeting: Pursuant to FACA requirements, the public may also inspect the meeting materials at www.nagb.gov beginning on Thursday, June 25, 2020 by 10:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website.

You may also access documents of the Department published in the Federal Register by using the article search feature at: www.federalregister.gov. Specifically, through the advanced search feature at this site, you can limit your search to documents published by the Department.

Authority: Pub. L. 107-279, Title III—National Assessment of Educational Progress section 301.

Lesley A. Muldoon,
Executive Director,National Assessment Governing Board (NAGB),U.S. Department of Education.

[FR Doc. 2020-13758 Filed 6-30-20; 8:45 am]

BILLING CODE 4000-01-P